NATIONAL SCIENCE FOUNDATION

Sunshine Act Meetings; National Science Board

The National Science Board, pursuant to NSF regulations (45 CFR part 614), the National Science Foundation Act, as amended (42 U.S.C. 1862n-5), and the Government in the Sunshine Act (5 U.S.C. 552b), hereby gives notice of certain CHANGES in the scheduling of two meetings for the transaction of National Science Board business, as noted below. The original notice was published in the Federal Register on April 30, 2015 (80 FR 24287).

Webcast Information: The link is now available.

Public meetings and public portions of meetings will be webcast. To view the meetings, go to http://www.tvworldwide.com/events/nsf/150505 and follow the instructions.

Plenary Board Meeting: The speaker has been identified.

Open Session: 11:05-11:25 a.m.

• Presentation by the recipient of the NSB 2015 Vannevar Bush Award, Dr. James Duderstadt.

Plenary Board Meeting: An action has been added to the closed session.

Closed Session: 8:30-10:30 a.m.

• Awards and Agreements/CPP action items, including RCRV, NOAO, NRAO, Gemini Observatory, and NHMFL.

Updates: The link to the NSB's Web page for updates has been changed. Please refer to the National Science Board Web site for additional information. Meeting information and schedule updates (time, place, subject matter or status of meeting) may be found at http://www.nsf.gov/nsb/meetings/notices.jsp.

Agency Contact: Jennie Moehlmann, jmoehlma@nsf.gov.

Public Affairs Contact: Nadine Lymn, nlymn@nsf.gov.

Ann Bushmiller,
Senior Counsel to the National Science Board.

[FR Doc. 2015-10633 Filed 5-1-15; 4:15 pm]

BILLING CODE 7555-01-P